DEPARTMENT OF COMMERCE

National Oceanic and Atmospheric Administration

[I.D. 082305D]

Gulf of Mexico Fishery Management Council; Public Meetings; Correction

AGENCY: National Marine Fisheries Service (NMFS), National Oceanic and Atmospheric Administration (NOAA), Commerce.

ACTION: Notice of cancellation of public meetings.

SUMMARY: The Gulf of Mexico Fishery Management Council (Council) has cancelled the public meetings that were scheduled for September 12-16, 2005, in New Orleans, LA.

SUPPLEMENTARY INFORMATION: The initial notice was published in the Federal Register on August 30, 2005, in FR Doc. E5-4719, beginning on page 51347. The meetings will be rescheduled at a later date and announced in the Federal Register.

Dated: September 6, 2005.
Emily Menashes,
Acting Director, Office of Sustainable Fisheries, National Marine Fisheries Service.

[FR Doc. E5-4932 Filed 9-8-05; 8:45 am]

BILLING CODE 3510-22-S